DEPARTMENT OF TRANSPORTATION

Federal Aviation Administration

14 CFR Part 39

[Docket No. 2003-SW-18-AD]

RIN 2120-AA64

Airworthiness Directives; Eurocopter France Model AS350B, B1, B2, B3, BA, C, D, D1, and AS355E, F, F1, F2, and N Helicopters

AGENCY: Federal Aviation Administration, DOT.

ACTION: Notice of proposed rulemaking (NPRM).

SUMMARY: This document proposes superseding an existing airworthiness directive (AD) for the specified Eurocopter France (Eurocopter) Model AS350B, B1, B2, B3, BA, D, and AS355E helicopters that currently requires removing certain serial-numbered main servocontrols before further flight. This action would contain the same requirements but would also require removing certain other main and tail servocontrols on or before 550 hours time-in-service (TIS) or 24 months, whichever occurs first. Also, this action would add the Eurocopter Model AS350C, D1, and AS355F, F1, F2, and N helicopters to the applicability. This proposal is prompted by the discovery of a manufacturing defect in another set of servocontrols. The actions specified by the proposed AD are intended to prevent failure of a main or tail servocontrol in the flight control system and subsequent loss of control of the helicopter.

DATES: Comments must be received on or before September 15, 2003.

ADDRESSES: Submit comments in triplicate to the Federal Aviation Administration (FAA), Office of the Regional Counsel, Southwest Region, Attention: Rules Docket No. 2003-SW-18-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Uday Garadi, Aviation Safety Engineer, FAA, Rotorcraft Directorate, Regulations and Guidance Group, Fort Worth, Texas 76193-0110, telephone (817) 222-5123, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2003-SW-18-AD.” The postcard will be date stamped and returned to the commenter.

Discussion

On December 21, 2001, the FAA issued Emergency AD 2001-26-53 (EAD). That EAD was published in the Federal Register as a final rule; request for comments on January 22, 2002, Docket No. 2001-SW-70-AD, Amendment 39-12605 (67 FR 2804). The AD requires removing certain serial-numbered main servocontrols from service. That action was prompted by a report of manufacturing defects in a batch of main servocontrols. The actions specified by the AD are intended to prevent failure of a main or tail servocontrol in the flight control system and subsequent loss of control of the helicopter.

Since issuing that AD, the manufacturer discovered that not all servocontrols had been nondestructive tested as required, and further investigations showed that another set of servocontrols could be affected by the same fault as discovered previously.

The FAA has reviewed Eurocopter Alert Service Bulletin No. 01.00.48 for Model AS355E, F, F1, F2, and N helicopters and No. 01.00.52 for Model AS350B, BA, B1, B2, B3, BB, and D helicopters, both dated May 16, 2002, which advise replacing certain main servocontrols before further flight and certain other main and tail servocontrols within 550 hours or 24 months.

The Direction General De L'Aviation Civile (DGAC), the airworthiness authority for France, notified the FAA that an unsafe condition may exist on Eurocopter Model AS350B, BB, B1, B2, B3, BA, D, and AS355E, F, F1, F2, and N helicopters. The DGAC advises of the discovery of a manufacturing fault on a set of servocontrols. The DGAC classified the Eurocopter alert service bulletins as mandatory and issued AD No. 2003-099(A) (for Model AS 350 helicopters) and No. 2003-100(A) (for Model AS 355 helicopters), both dated March 5, 2003, to ensure the continued airworthiness of these helicopters.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

The previously described unsafe condition is likely to exist or develop on other helicopters of the same type designs. Therefore, the proposed AD would supersede AD 2001-26-53 to retain the requirement to remove certain main servocontrols before further flight but would also require removing certain main and tail servocontrols within 550 hours TIS or 24 months, whichever occurs first. Also, the proposed AD would add the Eurocopter Model AS350C, D1, and AS355F, F1, F2, and N helicopters to the applicability. Even though neither the Eurocopter alert service bulletin nor the DGAC AD address the Model AS350C and D1 helicopters, those type designs may contain affected servocontrols.

On July 10, 2002, the FAA issued a new version of 14 CFR part 39 (67 FR 47997, July 22, 2002), which governs the FAA's AD system. The regulation now includes material that relates to altered products, special flight permits, and alternative methods of compliance. Because we have now included this material in part 39, we no longer need to include it in each individual AD.

The FAA estimates that this proposed AD would affect 627 helicopters and would take approximately ½ work hour to identify the affected servocontrols and 2 work hours to replace each servocontrol at an average labor rate of $60 per work hour. Required parts would cost approximately $9200 per servocontrol. Based on these figures, we estimate the total cost impact of the AD on U.S. operators to be $5,154,130, assuming 551 servocontrols are replaced.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12605 (67 FR 2804, January 22, 2002), and by adding a new airworthiness directive (AD), to read as follows:

Eurocopter France: Docket No. 2003-SW-18-AD. Supersedes AD 2001-26-53, Amendment 39-12605, Docket No. 2001-SW-70-AD.

Applicability: Model AS350B, B1, B2, B3, BA, C, D, D1, and AS355E, F, F1, F2, and N helicopters, certificated in any category, except those helicopters with TRW-SAMM main and tail servocontrols that have been reconditioned and identified by the letter “V” engraved on the identification plate on the right-hand side of the part number (P/N).

Compliance: Required as indicated, unless accomplished previously.

To prevent failure of a servocontrol in the flight control system and subsequent loss of control of the helicopter, accomplish the following:

(a) Before further flight, remove each main servocontrol, P/N SC5083, serial number (S/N) 1500 through 1515, and P/N SC5084, S/N 722 through 726.

(b) On or before 550 hours time-in-service or 24 months, whichever occurs first, remove the following main or tail servocontrols, P/N and S/N:

(1) P/N SC5081-1, with S/N 78, 89, 227, 240, 315, 362, 427, 451, 452, 492, 497, 498, 506, 512, 532, 550, 556, or 561.

(2) P/N SC5082-1, with S/N 045, 180, 194, 197, 254, or 264.

(3) P/N SC5083, with S/N 01, 03, 05, 082, 17, 21, 40, 43M, 65M, 77, 87, 103M, 106M, 107, 109, 128, 129, 138, 139, 144, 148, 152, 206, 207, 218, 221, 226, 235, 239, 240, 241, 243, 254, 256, 269, 286, 287, 290, 291, 302, 312, 321, 325, 327, 330, 331, 334, 338, 339, 347M, 356M, 365, 371, 372, 378M, 380M, 389, 412M, 418, 423, 428, 439, 484M, 503, 505, 525, 526, 528, 529, 573M, 587, 594M, 598, 612, 622, 1150 through 1155, 1157, 1159 through 1169, 1180 through 1199, 1207, 1208, 1210 through 1259, 1269, or 1291 through 1499.

(4) P/N SC5084, with S/N 013, 025, 31, 75, 087, 87, 101M, 102, 105, 108, 136, 160, 162, 165M, 203, 205, 205M, 209, 220, 225, 232M, 239M, 267M, 271, 288M, 292, 300, 320, 364M, 458, 612, 627, 630, 632 through 634, 636 through 652, 654, 656 through 660, 682 through 721, 727 through 731, or 733 through 756.

(5) P/N SC5071-1, with S/N 343 or 389.

(6) P/N SC5072, with S/N 003, 35, 108, 197, 216M, 253M, 339M, 347M, 432M, 700 through 724, 726 through 744, 763 through 768, 783 through 789, or 820 through 883.

(c) To request a different method of compliance or a different compliance time for this AD, follow the procedures in 14 CFR 39.19. Contact the Safety Management Group, Rotorcraft Directorate, FAA, for information about previously approved alternative methods of compliance.

(d) Special flight permits will not be issued.

Note: The subject of this AD is addressed in Direction General De L'Aviation Civile, France, AD Nos. 2003-099(A) and 2003-100(A), both dated March 5, 2003.

Issued in Fort Worth, Texas, on July 9, 2003.
Mark R. Schilling,
Acting Manager, Rotorcraft Directorate, Aircraft Certification Service.

[FR Doc. 03-17954 Filed 7-15-03; 8:45 am]

BILLING CODE 4910-13-P